FEDERAL COMMUNICATIONS COMMISSION

47 CFR Part 73

[MB Docket No. 14-245, RM-11740; DA 15-150]

Television Broadcasting Services; Longview, Texas

AGENCY: Federal Communications Commission.

ACTION: Final rule.

SUMMARY: A petition for rulemaking was filed by KCEB License Company, LLC (“KCEB License”), the licensee of KCEB(TV), channel 51, Longview, Texas, requesting the substitution of channel 26 for channel 51 at Longview. KCEB License filed comments reaffirming its interest in the proposed channel substitution and explained that the channel substitution will replicate KCEB(TV)'s current coverage area on channel 51 and serve 34,104 more persons than the current channel 51 facility. This will eliminate any potential interference with wireless operations in the Lower 700 MHz A Block and facilitate the clearing of the adjacent television band as expeditiously as possible.

DATES: Effective February 13, 2015.

FOR FURTHER INFORMATION CONTACT: Jeremy Miller, Jeremy.Miller@fcc.gov, Media Bureau, (202) 418-1507.

SUPPLEMENTARY INFORMATION: This is a synopsis of the Commission's Report and Order, MB Docket No. 14-245, adopted February 9, 2015, and released February 9, 2015. The full text of this document is available for public inspection and copying during normal business hours in the FCC's Reference Information Center at Portals II, CY-A257, 445 12th Street SW., Washington, DC 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980 do not apply to this proceeding.

The Commission will send a copy of the Report and Order in a report to be sent to Congress and the Government Accountability Office pursuant to the Congressional review Act, see 5 U.S.C. 801(a)(1)(A).

List of Subjects in 47 CFR Part 73

Television.

Federal Communications Commission.
Barbara A. Kreisman,
Chief, Video Division, Media Bureau.

For the reasons discussed in the preamble, the Federal Communications Commission amends 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Texas is amended by removing channel 51 and adding channel 26 at Longview.

[FR Doc. 2015-03168 Filed 2-12-15; 8:45 am]

BILLING CODE 6712-01-P